DEPARTMENT OF STATE

[Public Notice: 11592]

In the Matter of the Designation of Segunda Marquetalia (and Other Aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Segunda Marquetalia, also known as New Marquetalia, also known as Second Marquetalia, also known as La Nueva Marquetalia, also known as FARC dissidents Segunda Marquetalia, also known as Revolutionary Armed Forces of Colombia Dissidents Segunda Marquetalia, also known as FARC-D Segunda Marquetalia, also known as Grupo Armado Organizado Residual Segunda Marquetalia, also known as GAO-R Segunda Marquetalia, also known as Residual Organized Armed Group Segunda Marquetalia, also known as Armed Organized Residual Group Segunda Marquetalia.

Therefore, I hereby designate the aforementioned organization and its aliases as a Foreign Terrorist Organization pursuant to section 219 of the INA.

This determination shall be published in the Federal Register.

Authority: 8 U.S.C. 1189.

Dated: November 18, 2021.
Antony J. Blinken,
Secretary of State.

[FR Doc. 2021-26088 Filed 11-30-21; 8:45 am]

BILLING CODE 4710-AD-P